Title 3—

The President

Executive Order 14328 of August 5, 2025

Establishing the White House Task Force on the 2028 Summer Olympics

By the authority vested in me as President by the Constitution and the laws of the United States of America, and in anticipation of the 2028 Summer Olympics, it is hereby ordered:

Section 1. Purpose. The United States will host the 2028 Summer Olympics, one of the most prominent international sports events of the 21st century. This extraordinary occasion offers a powerful opportunity to showcase American strength, pride, and patriotism while welcoming the world to our shores. The Federal Government will lead a unified effort to ensure maximum safety, secure borders, and world-class transportation for millions of visitors throughout the 2028 Summer Olympic and Paralympic Games (Games).

Sec. 2. Establishing the White House Task Force on the 2028 Summer Olympics. (a) There is hereby established the White House Task Force on the 2028 Summer Olympics (Task Force).

(b) The President shall serve as Chair of the Task Force, and the Vice President shall serve as Vice Chair.

(c) The Chair shall designate an Executive Director, who shall administer and execute the day-to-day operations of the Task Force, and who shall report to the Chair through the Assistant to the President and Deputy Chief of Staff for Strategic Implementation. The Chair, the Vice Chair, or a member of the Task Force designated by the Chair, shall convene regular meetings of the Task Force, determine its agenda, and direct its work, consistent with this order. The Executive Director and the Assistant to the President and Deputy Chief of Staff for Strategic Implementation shall assist in the performance of these duties. The Chair may designate any member of the Task Force to preside over meetings of the Task Force.

(d) In addition to the Chair and Vice Chair, the Task Force shall consist of the following members:

(i) the Secretary of State;

(ii) the Secretary of the Treasury;

(iii) the Secretary of Defense;

(iv) the Attorney General;

(v) the Secretary of Commerce;

(vi) the Secretary of Transportation;

(vii) the Secretary of Homeland Security;

(viii) the Assistant to the President and Chief of Staff;

(ix) the Assistant to the President for National Security Affairs;

(x) the Assistant to the President and Deputy Chief of Staff;

(xi) the Assistant to the President and Deputy Chief of Staff for Policy and Homeland Security Advisor;

(xii) the Assistant to the President and Deputy Chief of Staff for Legislative, Political and Public Affairs;

(xiii) the Assistant to the President and Deputy Chief of Staff for Communications and Cabinet Secretary;

(xiv) the Assistant to the President and Deputy Chief of Staff for Strategic Implementation;

(xv) the Director of the Federal Bureau of Investigation;

(xvi) the Chairman of the Federal Communications Commission; and

(xvii) the heads of such other executive departments, agencies, and offices that the Chair or the Vice Chair may, from time to time, designate or invite to participate.

(e) The Task Force shall coordinate with executive departments and agencies (agencies) to assist in the planning, organization, and execution of the events surrounding the Games. Agencies shall provide information and assistance useful and necessary to the Task Force.

(f) For administrative purposes, the Task Force shall be housed in the Department of Homeland Security, which shall provide funding and administrative support for the Task Force.

(g) Agency heads serving as members of the Task Force shall each provide a report to the Task Force regarding their agency's respective planning and activities concerning the Games. These reports shall be submitted to the Executive Director of the Task Force no later than October 1, 2025.

(h) The Task Force shall terminate on December 31, 2028, unless extended by the President.

Sec. 3. Functions. The Task Force shall:

(a) coordinate Federal planning and response related to the security, transportation, and entry/exit processes for the Games;

(b) support interagency cooperation and information-sharing with State and local partners;

(c) identify legal, logistical, or regulatory barriers that could impede effective Federal support for the Games and recommend timely solutions;

(d) assist in the planning and implementation of visa processing and credentialing programs for foreign athletes, coaches, officials, and media personnel; and

(e) ensure operational readiness across law enforcement, counterterrorism, transportation, and emergency response functions.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Homeland Security.

THE WHITE HOUSE,

August 5, 2025.

[FR Doc. 2025-15193

Filed 8-7-25; 11:15 am]

Billing code 4410-10-P